DEPARTMENT OF COMMERCE

National Institute of Standards and Technology

Cancellation of Partially Closed Meeting of the Manufacturing Extension Partnership National Advisory Board Scheduled For September 20, 2001

AGENCY: National Institute of Standards and Technology, Commerce.

ACTION: Notice of Meeting Cancellation.

SUMMARY: The partially closed meeting of the Manufacturing Extension Partnership National Advisory Board, originally scheduled for September 20, 2001 at the National Institute of Standards and Technology is hereby canceled.

FOR FURTHER INFORMATION CONTACT: Contact Linda Acierto, Senior Policy Advisor, Manufacturing Extension Partnership, National Institute of Standards and Technology, Gaithersburg, MD 20899-4800, telephone 301-975-5033 or e-mail linda.acierto@nist.gov.

Dated: September 14, 2001.
Michael R. Rubin,
Acting Chief Counsel for Technology.

[FR Doc. 01-23444 Filed 9-18-01; 8:45 am]

BILLING CODE 3510-13-M